DEPARTMENT OF LABOR

Employment and Training Administration

[TA-W-59,682]

Bernzomatic, Medina, NY; Notice of Termination of Investigation

Pursuant to Section 221 of the Trade Act of 1974, as amended, an investigation was initiated on July 7, 2006 in response to a worker petition filed by the Rochester Regional Joint Board, Unite Here, on behalf of workers of Bernzomatic, Medina, New York.

The petitioner has requested that the petition be withdrawn. Consequently, the investigation has been terminated.

Signed at Washington, DC, this 12th day of July 2006.
Richard Church,
Certifying Officer, Division of Trade Adjustment Assistance.

[FR Doc. E6-13057 Filed 8-9-06; 8:45 am]

BILLING CODE 4510-30-P